DEPARTMENT OF ENERGY

Federal Energy Regulatory Commission

[Docket No. AD06-2-000]

Assessment of Demand Response Resources; Notice of Technical Conference on Demand Response and Advanced Metering

December 12, 2005.

Take notice that on Wednesday, January 25, 2005, at 9 a.m. (EST), staff of the Federal Energy Regulatory Commission will convene a technical conference on demand response and advanced metering regarding issues raised by the Energy Policy Act of 2005 (EPAct 2005) section 1252(e)(3).¹ The technical conference will be held in the Commission Meeting Room at the Federal Energy Regulatory Commission, 888 First Street, NE., Washington, DC 20426. The conference will be open for the public to attend and advance registration is not required. This will be a staff conference, but Commissioners may attend. In the coming weeks, an additional notice of this technical conference will be issued finalizing the agenda and participation on the proposed panels.

¹ Energy Policy Act of 2005, Pub. L. No. 109-58, § 1252(e)(3), 119 Stat. 594, (2005) (EPAct section 1252(e)(3)).

A free webcast of this event will be available through www.ferc.gov. Anyone with Internet access who desires to view this event can do so by navigating to http://www.ferc.gov's Calendar of Events and locating this event in the Calendar. The event will contain a link to its webcast. The Capitol Connection provides technical support for the webcasts. It also offers access to this event via television in the Washington, DC area and via phone bridge for a fee. Visit http://www.CapitolConnection.org or contact Danelle Perkowski or David Reininger at the Capitol Connection 703-993-3100 for information about this service.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact:

David Kathan (Technical Information), Office of Markets, Tariffs and Rates, Federal Energy Regulatory Commission, 888 First Street, NE., Washington, DC 20426, (202) 502-6404, David.Kathan@ferc.gov.

Aileen Roder (Legal Information), Office of the General Counsel, Federal Energy Regulatory Commission, 888 First Street, NE., Washington, DC 20426, (202) 502-6022, Aileen.Roder@ferc.gov.

Magalie R. Salas,
Secretary.

[FR Doc. E5-7431 Filed 12-15-05; 8:45 am]

BILLING CODE 6717-01-P